DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations, 30 CFR part 44, govern the application, processing, and disposition of petitions for modification. This notice is a summary of petitions for modification submitted to the Mine Safety and Health Administration (MSHA) by the parties listed below.

DATES: All comments on the petitions must be received by the Office of Standards, Regulations, and Variances on or before March 27, 2015.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 1100 Wilson Boulevard, Room 2350, Arlington, Virginia 22209-3939, Attention: Sheila McConnell, Acting Director, Office of Standards, Regulations, and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Numbers: M-2015-001-C and M-2015-002-C.

Petitioner: Sunrise Coal LLC, 12661 North Agricare Road, Oaktown, Indiana 47561.

Mines: Oaktown Fuels No. 1 Mine, MSHA I.D. No. 12-02394, and Oaktown Fuels No. 2, MSHA I.D. No. 12-02418, both located in Knox County, Indiana.

Regulation Affected: 30 CFR 75.503 (Permissible electric face equipment; maintenance), 30 CFR 18.35(a)(5) (Portable (trailing) cables and cords).

Modification Request: The petitioner requests a modification of the existing standard to increase the maximum length of trailing cables supplying power to permissible pumps in the mines. The petitioner states that:

(1) These petitions will apply only to trailing cables supplying three-phase, 480-volt power for permissible pumps.

(2) The maximum length of the trailing cables for a 480-volt permissible pump will be 4000 feet.

(3) The permissible pump will be no greater than 6.2 horsepower.

(4) The 480-volt power for permissible pump trailing cables exceeding 500 feet will not be smaller than No. 6 AWG.

(5) All circuit breakers used to protect No. 6 AWG trailing cables exceeding 500 feet in length will have an instantaneous trip unit calibrated to trip at 60 amperes. These circuit breakers will be in the cable coupler and the cable coupler will have permanent, legible labels. Each label will identify the cable coupler as being suitable for protecting No. 6 AWG cables. This label will be maintained legible.

(6) Replacement circuit breakers used to protect No. 6 AWG trailing cables exceeding 500 feet in length will be calibrated to trip at 60 amperes.

(7) All circuit breakers used to protect the No. 2 AWG trailing cables exceeding 500 feet in length will have instantaneous trip units calibrated to trip at 150 amperes. These circuit breakers will be in the cable coupler and the cable coupler will have permanent, legible labels. Each label will identify the cable coupler as being suitable for protecting No. 2 AWG cables. The labels will be maintained legible.

(8) Replacement circuit breakers used to protect No. 2 AWG trailing cables exceeding 500 feet in length will be calibrated to trip at 150 amperes.

(9) The petitioner's alternative method will not be implemented until all miners who have been designated to examine and verify the short-circuit settings and proper procedures for examining trailing cables for defects and damage have received training.

(10) Within 60 days after these petitions are granted, the petitioner will submit proposed revisions for their approved 30 CFR part 48 training plans to the District Manager for the area in which the mine is located. The training will include the following:

(a) Mining methods and operating procedures for protecting the trailing cables against damage.

(b) Proper procedures for examining the trailing cables to ensure safe operating condition.

(c) The hazards of setting the instantaneous circuit breakers too high to adequately protect the trailing cables.

(d) How to verify that the circuit interrupting device(s) protecting the trailing cable(s) are properly set and maintained.

The petitioner further states that procedures specified in 30 CFR 48.3 for proposed revisions to approved training plans will apply.

The petitioner asserts that the alternative method will guarantee no less than the same measure of protection for all miners than that of the existing standard.

Dated: February 19, 2015.
Sheila McConnell,
Acting Director, Office of Standards, Regulations, and Variances.

[FR Doc. 2015-03835 Filed 2-24-15; 8:45 am]

BILLING CODE 4510-43-P